DEPARTMENT OF DEFENSE

Department of Army; Corps of Engineers

Intent To Prepare a Draft Environmental Impact Statement (DEIS) for Wetland Restoration and/or Creation in the Barataria Basin, Louisiana, a Component of the Louisiana Coastal Area, Louisiana—Ecosystem Restoration, Barrier Island Restoration, Marsh Creation, and River Diversion, Barataria Basin Feasibility Study

AGENCY: U.S. Army Corps of Engineers, DoD.

ACTION: Notice of intent.

SUMMARY: Pursuant to section 102(2)(C) of the National Environmental Policy Act (NEPA) of 1969, as amended, the U.S. Army Corps of Engineers (USACE), New Orleans District (NOD) will prepare a Draft Environmental Impact Statement (DEIS) to determine the feasibility of implementing wetland restoration/creation in the Barataria Basin, located in Lafourche Parish, Louisiana. The proposed action is strategically planned as an initial effort for coastal restoration under the existing authority for the Louisiana Coastal Area (LCA), Louisiana—Ecosystem Restoration Louisiana—Ecosystem Restoration, Barrier Island Restoration, Marsh Creation, and River Diversion, Barataria Basin Feasibility Study.

The LCA Feasibility Study will evaluate the coastal restoration strategies described in the December 1998 document entitled “Coast 2050: Toward a Sustainable Coastal Louisiana”. The LCA Feasibility Study will evaluate the Coast 2050 Plan as a whole and select strategies, such as the proposed action, to be analyzed in feasibility-level detail. The Coast 2050 Plan has been developed under legislative mandate and is a result of recognition by Federal, State, and local agencies that a single plan is needed that incorporates a clear vision for the coast, builds on previous work, integrates coastal management and coastal restoration approaches, and adopts a multiple-use approach to restoration planning.

In general, the overall purpose of the Coast 2050 Plan is to sustain a coastal ecosystem that supports and protects the environment, economy, and culture of southern Louisiana, and contributes greatly to the economy and well-being of the nation. The purpose of the Coast 2050 strategies for the Barataria Basin is to restore and/or protect the natural and human environment to create a sustainable ecosystem in the Barataria Basin within the context of the Gulf of Mexico ecosystem, including coastal Louisiana. The purpose of the proposed action, wetland restoration/creation strategy R2-16 and R2-17 of the Coast 2050 Plan for the Barataria Basin, is to restore and create wetlands in the western Barataria Basin so as to protect and sustain the ecological functions, the natural distributary ridges, and the local human infrastructure of the area.

FOR FURTHER INFORMATION CONTACT: Questions regarding the DEIS may be directed to Dr. William P. Klein, Jr., CEMVN-PM-RS, P.O. Box 60267, New Orleans, Louisiana 70160-0267; telephone (504) 862-2540 or fax (504) 862-2572. Questions regarding the proposed action should be directed to the study manager, Mr. Edmond J. Russo, Jr., CEMVN-PM-CWPPRA, P.O. Box 60267, New Orleans, Louisiana 70160-0267, telephone (504) 862-1496 or fax: (504) 862-2572.

SUPPLEMENTARY INFORMATION:

1. Authority.

This study is authorized through Resolutions of the U.S. House of Representatives and Senate Committees on Public Works, 19 October 1967 and 19 April 1967. Representatives and Senate Committees on Public Works, 19 October 1967 and 19 April 1967.

2. Proposed Action

a. The proposed action is one of three separate actions to be initially considered under the LCA, Louisiana—Ecosystem Restoration Louisiana—Ecosystem Restoration, Barrier Island Restoration, Marsh Creation, and River Diversion, Barataria Basin Feasibility Study. The USACE, NOD proposes to investigate the feasibility of restoring and/or creating wetlands in the southwestern portion of the Barataria Basin, Louisiana.

The purpose of the proposed action, wetland restoration/creation strategies R2-16 and R2-17 of the Coast 2050 Plan for the Barataria Basin, is to restore and create wetlands in the southwestern portions of the Barataria Basin so as to protect and sustain the ecological functions, the natural distributary ridges, and the local human infrastructure of the area.

b. The study area is located within the Barataria Basin of southeastern Louisiana in Lafourche Parish. The study area is bounded on the north by the West Fork Bayou L'Ours, on the west by Bayou Lafourche, on the south by Louisiana State Highway 1, and on the east by the Lafourche Parish and Jefferson Parish boundary. The study area is experiencing wetland loss at the rate of approximately 11 square miles per year.

Wetland loss within the Barataria Basin is attributed to the combination of natural erosional processes of sea-level rise, subsidence, herbivory, and the human activities of levee construction, channelization, and development. Freshwater and sediment input into the Barataria Basin was virtually eliminated by the flood protection levees constructed along the Mississippi River and the closure of Bayou Lafourche at Donaldsonville. The only significant source of fresh water in the basin is rainfall. There is some freshwater input into the basin by the siphons located at Naomi and at West Pointe a la Hache (each siphon has a maximum output of about 2,000 cubic feet per second).

When Davis Pond becomes operational in April 2001, it could potentially divert up to 10,650 cubic feet per second dependent upon the salinity conditions in the basin. However, it is predicted that the sediment-laden waters will collect in the ponding area about two miles from the Davis Pond structure located at U.S. Highway 90 and Lake Catouatche. Little, if any, of this would likely directly impact the proposed action area.

c. The Coast 2050 Plan serves as the joint coastal restoration plan of the Breaux Act Task Force and the State Wetlands Authority. The Coast 2050 Plan was completed in December 1998 through a joint effort of the Louisiana Coastal Wetlands Conservation and Restoration Task Force and the Louisiana Wetlands Conservation and Restoration Authority. Coast 2050 is a planning effort inspired by the severity of the problems facing south Louisiana, as well as an increased level of confidence in our ability to understand the ecosystem and to implement effective restoration projects.

The Coast 2050 Plan combines elements of all previous efforts, along with new initiatives from private citizens, local governments, State and Federal agency personnel, and the scientific community. For the first time, as explicitly called for by the Coalition to Restore Coastal Louisiana in 1997, diverse groups have come together to develop one shared vision for the coast expressed in this overarching goal: To sustain a coastal ecosystem that supports and protects the environment, economy and culture of southern Louisiana, and that contributes greatly to the economy and well-being of the nation.

d. Need for the Study.—The Coast 2050 Reconnaissance Report recommended that the study proceed to the feasibility phase, contingent upon the execution of a Feasibility Cost Sharing Agreement (FCSA) with a non-Federal Sponsor. An FCSA was executed with the Louisiana Department of Natural Resources (LADNR) on February 18, 2000. The proposed action focuses on wetland restoration/creation in the Barataria Basin ecosystem due to the very high rate of wetland loss, estimated at about 11 square miles per year, throughout the basin.

The proposed action also provides additional advantages: (1) This proposed action potentially provides a low risk and quickly implementable plan to address wetland loss in the Barataria Basin; (2) the proposed action study area is strategically placed and could potentially yield benefits to other coastal resources within the unique Barataria Basin ecosystem, geologic framework, and the human environment infrastructure associated with transportation, oil and gas extraction, utilities, etc.; (3) the proposed action could also provide additional benefits in terms of protection of important landscape structural features that function as important hydrological features within the Barataria Basin; and (4) the proposed action could be implemented independently of the remaining Coast 2050 Plan strategies for the Barataria Basin.

3. Study Alternatives

a. During the Coast 2050 public meetings conducted in 1998, two marsh creation strategies, Strategy R2-17—Dedicated Dredging near Caminada Bay and Strategy R2-16—Dedicated Dredging Along Louisiana Highway 1, were considered as viable ecosystem restoration strategies. Hence, these strategies will be developed into alternatives for the proposed action. Other alternatives that will be considered include: The No Action Alternative, filling, marsh replenishing, terracing, and the beneficial use of dredged material from maintenance dredging of navigation channels. In addition, alternatives developed during the scoping process will also be developed and considered.

b. Wetland restoration/creation design features will be evaluated to ensure compliance with current Federal and State laws and regulations. Any adverse effects of the alternative plans will be identified and appropriate mitigation measures will be included in the plans. However, because the proposed action is ecosystem restoration, it is not the intent to generate alternative plans that would require mitigation. An Environmental Impact Statement (EIS) will be prepared during the feasibility phase because of the potential for significant direct and indirect, secondary, and cumulative impacts on the human and natural environment.

4. Scoping Process

An intensive public involvement program will be initiated and maintained throughout the study to solicit input from affected Federal, State, and local agencies, Indian tribes, and interested private organizations and individuals. Scoping is a critical component of the overall public involvement program. The scoping process is designed to provide an early and open means of determining the scope of issues (problems, needs, and opportunities) to be identified and addressed in the DEIS.

5. Public Scoping Meeting

The Corps of Engineers and the LADNR invite NEPA input in writing or in person concerning the scope of the EIS, resources to be evaluated, and alternatives to be considered. Individuals, groups, agencies and other interested parties can write comments to the Corps of Engineers using Dr. Klein's mailing address shown above. In the early summer of 2000, the Corps of Engineers will hold at least one public meeting in the study area to receive oral and written comments on the proposed action. Notices will be mailed to the affected and interested public once the date of the public scoping meeting has been established. Comments received as a result of the scoping meeting will be compiled and analyzed; and a Scoping Document, summarizing the results, will be made available to all participants.

6. Interagency Coordination

The Department of Interior, U.S. Fish and Wildlife Service, will provide a Fish and Wildlife Coordination Act Report. Coordination will be maintained with the U.S. Fish and Wildlife Service and the National Marine Fisheries Service regarding threatened and endangered species under their respective jurisdictional responsibilities. Coordination will be maintained with the Natural Resources Conservation Service regarding prime and unique farmlands. The U.S. Department of Agriculture will be consulted regarding the “Swampbuster” provisions of the Food Security Act. We will prepare a section 404(b)(1) evaluation. Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Streams. Application will be made to the Louisiana Department of Environmental Quality for a Water Quality Certificate.

7. Availability of DEIS

It is anticipated that the Draft EIS will be available for public review during the spring of 2001. A 45-day review period will be allowed so that all interested agencies, groups, and individuals will have an opportunity to comment on the draft report and EIS. In addition, a public meeting will be held during the review period to receive comments and address questions concerning the draft EIS.

Dated: April 26, 2000.
Thomas F. Julich,
Colonel, U.S. Army District Engineer.

[FR Doc. 00-11296 Filed 5-4-00; 8:45 am]

BILLING CODE 3710-84-P